DEPARTMENT OF DEFENSE

Department of the Army; Corps of Engineers

Notice of Availability of the Draft Environmental Impact Statement for the Montauk Point Storm Damage Reduction Project, Suffolk County, NY

AGENCY: Department of the Army, U.S. Army Corps of Engineers, DoD.

ACTION: Notice of availability.

SUMMARY: This announces the availability of the Draft Environmental Impact Statement (DEIS) which assesses the potential environmental impacts of the proposed reinforcement of an existing stone revetment wall at Montauk Point, Suffolk County, NY. The DEIS has been prepared in accordance with the National Environmental Policy Act (NEPA), and U.S. Army Corps of Engineers (USACE) regulations for implementing NEPA.

DATES: The comment period for the DEIS will end 45 days after publication of the notice in the Federal Register by the U.S. Environmental Protection Agency. The end date falls within the first week of October 2005.

ADDRESSES: To obtain copies of the DEIS or submit comments, contact Dr. Christopher Ricciardi, Environmental Coordinator, U.S. Army Corps of Engineers, New York District, Planning Division—Environmental Analysis Branch, 26 Federal Plaza, Room 2151, New York, NY 10278-0090.

FOR FURTHER INFORMATION CONTACT: Dr. Christopher Ricciardi, Planning Division—Environmental Analysis Branch, at (917) 790-8630 or christopher.g.ricciardi@usace.army.mil.

SUPPLEMENTARY INFORMATION: The purpose of this DEIS is to analyze significant issues and information relevant to environmental concerns regarding the proposed reinforcement of an existing stone revetment wall at Montauk Point, NY. The U.S. Coast Guard and the Montauk Historical Society constructed the current revetment wall between 1990 and 1992. The project study was conducted under the authority of resolution adopted by the Committee on Environment and Public Works of the U.S. Senate on May 15, 1991.

Resolved by the Committee on Environment and Public Works of the United States Senate, that the Secretary of the Army is hereby requested to review the report of the Chief of Engineers on Fire Island to Montauk Point, New York, published as House Document Number 86-425, 86th Congress, 2nd session, and other pertinent reports, to determine whether modifications of the recommendations contained therein are advisable at the present time, with a view to preserving, restoring, and protecting Montauk Point and vicinity, including the historic Montauk Lighthouse and associated facilities, from erosion, environmental degradation, and coastal storm damage.

The purpose of this DEIS is to analyze significant issues and information relevant to environmental concerns bearing on the proposed action or its anticipated impacts. The analysis indicates that short-term adverse environmental impacts, such as removal of benthic invertebrates in the revetment wall area, would be balanced by long-term beneficial impacts. Monitoring for Cultural and Biological resources will be coordinated with the U.S. Fish and Wildlife Service, the National Marine Fisheries Service, and the New York State Office of Parks, Recreation and Historic Preservation. All activity associated with the project would be undertaken in a way to minimize adverse impacts to sensitive habitats and threatened and endangered species, and adjacent shorelines, as well as to minimize cumulative impacts.

A 404(b)(1) evaluation has been prepared for the project and is included in the DEIS. The proposed action and alternatives do not represent a significant threat of degradation to the aquatic environment, and are in compliance with the 404(b)(1) Guidelines.

The Notice of Intent (NOI) was filed in May of 2002. A Public Scoping Meeting was held in November 2001 and the results were collected in a Public Scoping Document. Results from public and agency scoping coordination are addressed in the DEIS. Copies of the DEIS are also available at the East Hampton Library and the Montauk Point Library.

Brenda S. Bowen,
Army Federal Register Liaison Officer.

[FR Doc. 05-16539 Filed 8-18-05; 8:45 am]

BILLING CODE 3710-06-M